DEPARTMENT OF EDUCATION

Office of Special Education Programs—State Personnel Development Grants Program

AGENCY: Office of Special Education and Rehabilitative Services, Department of Education.

ACTION: Notice of final priority for State Personnel Development Grants Program.

SUMMARY: The Assistant Secretary for Special Education and Rehabilitative Services announces a priority for the Office of Special Education Programs—State Personnel Development Grants Program authorized under the Individuals with Disabilities Education Act (IDEA). This priority may be used for competitions held in fiscal year (FY) 2006 and later years. We take this action to assist State educational agencies (SEAs) in reforming and improving their systems for personnel preparation and professional development in early intervention, educational, and transition services in order to improve results for children with disabilities.

DATES: Effective Date: This priority is effective July 10, 2006.

FOR FURTHER INFORMATION CONTACT: Larry Wexler, U.S. Department of Education, 400 Maryland Avenue, SW., Room 4019, Potomac Center Plaza, Washington, DC 20202-2550. Telephone: (202) 245-7571 or via Internet: larry.wexler@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The purpose of the State Personnel Development Grants (SPDG) program is to assist SEAs in reforming and improving their systems for personnel preparation and professional development in early intervention, educational, and transition services in order to improve results for children with disabilities. The SPDG program provides a vehicle for helping States to ensure that SEAs and local educational agencies (LEAs) take steps to recruit, hire, and retain highly qualified special education teachers and to ensure that the professional development of special education teachers and other personnel is aimed at providing them with the knowledge and skills to deliver scientifically-based instruction that is likely to improve outcomes for children with disabilities.

We published a notice of proposed priority (NPP) for this program in the Federal Register on March 2, 2006 (71 FR 10656). The NPP included a background statement that described our rationale for proposing this priority. There are no differences between the NPP and this notice of final priority (NFP).

Analysis of Comments and Changes

In response to our invitation in the NPP, two parties submitted comments on the NPP. An analysis of the comments follows.

Comment: One commenter asked that the focus of the SPDG be expanded to include the opportunity for a State to work with LEAs to meet the measurable and rigorous targets of its State Performance Plan (SPP). In particular, the commenter requested that SPDG grantees be permitted to use funds to assist LEAs to read and understand data so that they can make improvements in student outcome areas, such as dropout, graduation, post-high school education and suspension and expulsion.

Discussion: SEAs applying for assistance under the SPDG program must ensure that their applications are for activities that are allowable under section 654 of the Act and consistent with the final priority established in this NFP. Under this priority, professional development activities, including training to assist personnel (as defined in section 651(b)) to read, understand, and use data as identified by the commenter, are an allowable use of funds if they are conducted for purposes of improving the knowledge and skills of personnel in the use of scientifically based instruction to improve results for students with disabilities, or the recruitment, retention, and training of highly qualified special education teachers. We do not believe that it is necessary to make the change that the commenter is suggesting because under the priority established in this NFP, SPDG program funds can be expended for a range of allowable activities conducted at the SEA and LEA levels relating to personnel preparation and professional development aimed at improving results for students with disabilities.

Changes: None.

Comment: One commenter supported the priority, but suggested that further examination of the connection between professional development and improved student outcomes is needed. This commenter also requested the opportunity to review any efforts supported by State Improvement Grant (SIG), SPDG or other similar projects that have linked professional development to improved student outcomes.

Discussion: As part of their evaluation, projects funded under the SPDG program are encouraged, but not required, to demonstrate a relationship between project activities and student outcomes. SIG and SPDG annual performance reports, which can be found at: http://www.signetwork.org/reports.shtml#annual, describe efforts demonstrating a relationship between professional development activities and improved student outcomes.

Changes: None.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priority

The Assistant Secretary establishes a priority to assist SEAs in reforming and improving their personnel preparation and professional development systems for teachers, principals, administrators, related services personnel, paraprofessionals, and early intervention personnel. The intent of this priority is to improve educational results for children with disabilities through the delivery of high quality instruction and the recruitment, hiring and retention of highly qualified special education teachers.

In order to meet this priority an applicant must demonstrate that the project for which it seeks funding—(1) Provides professional development activities that improve the knowledge and skills of personnel as defined in section 651(b) of IDEA in delivering scientifically-based instruction to meet the needs of, and improve the performance and achievement of infants, toddlers, preschoolers, and children with disabilities; (2) Implements practices to sustain the knowledge and skills of personnel who have received training in scientifically-based instruction; and (3) Implements strategies that are effective in promoting the recruitment, hiring, and retention of highly qualified special education teachers in accordance with section 602(10) and section 612(a)(14) of IDEA.

Projects funded under this priority must also:

(a) Budget for a three-day Project Directors' meeting in Washington, DC during each year of the project;

(b) Budget $4,000 annually for support of the State Personnel Development Grants Program Web site currently administered by the University of Oregon (http://www.signetwork.org); and

(c) If a project receiving assistance under this program authority maintains a Web site, include relevant information and documents in a form that meets a government or industry-recognized standard for accessibility.

Executive Order 12866

This NFP has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the final priority justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 300.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.323A State Personnel Development Grants)

Program Authority: 20 U.S.C. 1451-1455.

Dated: June 6, 2006.
John H. Hager,
Assistant Secretary for Special Education and Rehabilitative Services.

[FR Doc. 06-5272 Filed 6-8-06; 8:45 am]

BILLING CODE 4000-01-P